DEPARTMENT OF TRANSPORTATION

Federal Aviation Administration

Seventy Second RTCA SC-135 Environmental Testing Plenary Meeting

AGENCY: Federal Aviation Administration (FAA), U.S. Department of Transportation (DOT).

ACTION: Seventy Second RTCA SC-135 Environmental Testing Plenary Meeting.

SUMMARY: The FAA is issuing this notice to advise the public of a meeting of Seventy Second RTCA SC-135 Environmental Testing Plenary Meeting.

DATES: The meeting will be held April 26, 2018 9:00 a.m.-5:00 p.m.

ADDRESSES: The meeting will be held at: RTCA Headquarters, 1150 18th Street NW, Suite 910, Washington, DC 20036.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Seventy Second RTCA SC-135 Environmental Testing Plenary Meeting. The agenda will include the following:

Thursday April 26, 2018, 9:00 a.m.-5:00 p.m.

1. Chairmen's Opening Remarks, Introductions.

2. Approval of Summary From the Seventy-First Meeting—(RTCA Paper No. 310-17/SC135-717).

3. Review Working Group Summaries.

4. Review Schedule.

5. New/Unfinished Business.

6. Establish Date for Next SC-135 Meeting.

7. Review Workspace Process

8. Closing.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 20, 2018.
Michelle Swearingen,
Management & Program Analyst, Systems and Equipment Standards Branch, AIR-6B0, Policy and Innovation Division, Federal Aviation Administration.

[FR Doc. 2018-03731 Filed 2-22-18; 8:45 am]

BILLING CODE 4910-13-P